NUCLEAR REGULATORY COMMISSION

Request To Amend a License To Export Highly-Enriched Uranium

Pursuant to 10 CFR 110.70(b)(2) “Public notice of receipt of an application,” please take notice that the Nuclear Regulatory Commission has received the following request to amend an export license. Copies of the request are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

In its review of the request to amend a license to export special nuclear material noticed herein, the Commission does not evaluate the health, safety or environmental effects in the recipient nation of the material to be exported. The information concerning this amendment request follows.

NRC Export License Application
Name of applicant, date of application/date received, application number, docket number | Description of material: Material type | Description of material: Total qty | End use | Country of destination
Transnuclear, Inc. July 12, 2002 July 12, 2002 XSNM03171/03 11005236 | Highly-Enriched Uranium (93.30%) | Additional 15.0 kg Uranium (13.99 kg U-235) | To fabricate targets for irradiation in the NRU Reactor to produce medical radioisotopes and to extend expiration date to 12/31/03 | Canada.

For the Nuclear Regulatory Commission.
Dated this 24th day of July, 2002, at Rockville, Maryland.
Edward T. Baker,
Deputy Director, Office of International Programs.

[FR Doc. 02-19334 Filed 7-30-02; 8:45 am]

BILLING CODE 7590-01-P